NUCLEAR REGULATORY COMMISSION

[Docket No. 70-0036; NRC-2009-0278]

Notice of Availability of Draft Environmental Assessment and Finding of No Significant Impact for a License Amendment to Materials, License No. SNM-33, Westinghouse Electric Company, LLC, Hematite Decommissioning Project, Festus, Missouri (TAC NO. J00357)

AGENCY: Nuclear Regulatory Commission.

ACTION: Notice of Availability.

DATES: The public comment period on the draft Environmental Assessment and Finding of No Significant Impact (FONSI) closes on May 25, 2011. Written comments should be submitted as described in the ADDRESSES section of this notice. Comments received after this date will be considered if it is practical to do so, but the Commission is able to assure consideration only for comments received on or before May 25, 2011.

ADDRESSES: Please include Docket ID NRC-2009-0278 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2009-0278. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft Environmental Assessment and Finding of No Significant Impact is available electronically under ADAMS Accession Number ML110870992.

• Federal Rulemaking Web site: Public comments and supporting materials related to this notice can be found at http://www.regulations.gov by searching on Docket ID: NRC-2009-0278.

FOR FURTHER INFORMATION CONTACT: John J. Hayes, Senior Project Manager, Decommissioning and Uranium Recovery Licensing Directorate, Division of Waste Management and Environmental Protection, Office of Federal and State Materials and Environmental Management Programs, U.S. Nuclear Regulatory Commission, Washington, DC 20555, telephone: 301-415-5928; fax number: 301-415-5369; e-mail: John.Hayes@nrc.gov.

SUPPLEMENTARY INFORMATION:

I. Introduction

The U.S. Nuclear Regulatory Commission (NRC) is intending to issue a license amendment to special nuclear material (SNM) license number SNM-33. SNM-33 was issued to Westinghouse Electric Company, LLC (WEC) for the former Hematite Fuel Cycle Facility in Hematite, Missouri. Since the fuel cycle facility operations have ceased, the Hematite site is undergoing preparation for site decommissioning. The facility is now referred to as the Hematite Decommissioning Project (HDP). The purpose of the proposed amendment is to authorize disposal of approximately 23,000 m³ (30,000 yd³) of soil and debris containing low concentrations of byproduct material and SNM at the US Ecology Idaho, Inc. (USEI) hazardous waste disposal facility near Grand View, Idaho. WEC requested authority for this action on May 21, 2009 (ADAMS No. ML091480071), pursuant to Section 20.2002 of Title 10 of the Code of Federal Regulations (10 CFR 20.2002), “Method of Obtaining Approval of Proposed Disposal Procedures.” This action would also exempt USEI from further NRC licensing requirements to possess and dispose of byproduct material and special nuclear material (SNM) identified in WEC's proposed license amendment. Waste generated from the proposed action would be classified as meeting regulatory requirements for unrestricted release or as radioactive material and be packaged, transported and disposed of based on applicable regulations.

NRC has prepared a draft EA (ML110870992) in support of this amendment to allow WEC HDP, under their current license, to dispose of certain low-level waste (LLW) at the USEI hazardous waste disposal facility in Grand View, Idaho.

II. EA Summary

Under 10 CFR 20.2002, WEC proposes to dispose of about 23,000 m³ (30,000 yd³) of LLW from the HDP that contains byproduct material and SNM at the USEI hazardous waste disposal facility. The LLW will be generated as part of decommissioning activities, which will include exhumation of existing burial pits, as described in the Hematite DP. There are 40 unlined pits, each of which is approximately 12 meters (40 feet) long, 6 meters (20 feet) wide, and 3.6 meters (12 feet) deep. The pits were used to dispose of waste generated by the former owners of the facility from 1965 to 1971. In addition, it is estimated that there are 20-25 burials for which there are no records. These unrecorded burials are believed to be in the area between the documented Burial Pits and the site buildings, under roadways in the eastern portion of the central tract area of the HDP site. Additional impacted material may come from underneath the site buildings.

The NRC staff has prepared the draft EA in support of the proposed license amendment. The NRC staff considered impacts to many aspects of the surrounding environment as listed in Table 1.

Table 1—Environmental Aspects Considered for the Hematite Decommissioning Project Site and US Ecology Idaho, Inc.
Land use | Noise
Transportation | Historic and cultural resources
Geology and soils | Visual/scenic resources
Water resources | Socioeconomics
Ecological resources | Public and occupational health
Air Quality | Waste management

The NRC has concluded that the proposed action to grant a license amendment to WEC HDP, and an exemption to USEI from the requirements for a license under 10 CFR 30.3 and 10 CFR 70.3 is authorized by law and will not endanger life or property or the common defense and security and is otherwise in the public interest.

III. Finding of No Significant Impact

On the basis of this EA, NRC has concluded that there are no significant environmental impacts and the issuance of a license amendment does not warrant the preparation of an Environmental Impact Statement. Accordingly, it has been determined that a Finding of No Significant Impact is appropriate.

IV. Further Information

Documents related to this action, including the letter requesting the amendment and supporting documentation, are available electronically at the NRC's Electronic Reading Room at http://www.nrc.gov/reading-rm/adams.html. The ADAMS accession numbers for the documents related to this notice are:

1. May 21, 2009 Hematite Alternate Disposal Request (ML091480071)

2. July 31, 2009 HDP Environmental Report (ML092870403 and ML092870405)

3. Hematite Response to NRC RAIs, December 29 2009, (ML100320540)

4. Response to Additional Information Requested for Alternate Waste Disposal Authorization, March 31, 2010, (ML100950386)

5. Hematite Soil Contour Data, March 31, 2010, (ML100950393)

6. Hematite Additional Information and Clarifications Concerning 10 CFR 20.2002 Alternate Waste Disposal Authorization and Exemption for Specific Hematite Decommissioning Project Waste, May 24, 2010, (ML101450240)

7. Waste Characterization for Alternate Disposal Request for Decommissioning Soils, December 21, 2010, (ML103570023)

If you do not have access to ADAMS or if there are problems in accessing the documents located in ADAMS, contact the NRC's Public Document Room (PDR) Reference staff at 800-397-4209, 301-415-4737, or by email to pdr.resource@nrc.gov.

These documents may also be viewed electronically on the public computers located at the NRC's PDR, O-1 F21, One White Flint North, 11555 Rockville Pike, Rockville, MD 20852. The PDR reproduction contractor will copy documents for a fee.

Dated at Rockville, Maryland, this 14th day of April 2011.
For the Nuclear Regulatory Commission.
Keith I. McConnell,
Deputy Director, Decommissioning and Uranium Recovery Licensing Directorate, Division of Waste Management and Environmental Protection, Office of Federal and State Materials and Environmental Management Programs.

[FR Doc. 2011-9828 Filed 4-22-11; 8:45 am]

BILLING CODE 7590-01-P